NATIONAL FOUNDATION ON THE ARTS AND THE HUMANITIES

Institute of Museum and Library Services

Submission for OMB Review, Comment Request, Proposed Collection: Gathering Community Spotlights To Highlight Efforts of Local Practitioners To Improve Information Literacy: Collection Process To Populate Community Spotlights

AGENCY: Institute of Museum and Library Services, National Foundation on the Arts and the Humanities.

ACTION: Submission for OMB Review, request for comments, collection of information.

SUMMARY: The Institute of Museum and Library Services announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of the Gathering Community Spotlights to Highlight Efforts of Local Practitioners to Improve Information Literacy: Collection Process to Populate Community Spotlights.

A copy of the proposed information collection request can be obtained by contacting the individual listed below in the FOR FURTHER INFORMATION CONTACT section of this Notice.

DATES: Written comments must be submitted to the office listed in the ADDRESSES section below on or before October 04, 2024.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Katherine Maas, Chief of Staff, Institute of Museum and Library Services, 955 L'Enfant Plaza North SW, Suite 4000, Washington DC 20024-2135. Ms. Maas can be reached by telephone at 202-653-4798, or by email at infolit@imls.gov. Persons who are deaf or hard of hearing (TTY users) can contact IMLS at 202-207-7858 via 711 for TTY-Based Telecommunications Relay Service.

SUPPLEMENTARY INFORMATION: The Institute of Museum and Library Services is the primary source of federal support for the nation's libraries and museums. We advance, support, and empower America's museums, libraries, and related organizations through grant making, research, and policy development. To learn more, visit www.imls.gov.

Current Actions: This Notice proposes the clearance of Gathering Community Spotlights to Highlight Efforts of Local Practitioners to Improve Information Literacy: Collection Process to Populate Community Spotlights.

IMLS, in conjunction with the Information Literacy Taskforce (Taskforce), is leading an initiative to develop guidance, instructional materials, and national strategies on Information Literacy. IMLS seeks to gather Community Spotlights from their network of local practitioners known to be successfully building information literacy in their communities and to publish the Community Spotlights on InformationLiteracy.gov. This network of local practitioners includes IMLS grantees, Taskforce member agency grantees, and knowledge sharing cohort members and recruitment lists. IMLS is seeking approval to gather information from 3 organizations per quarter. All participation is strictly voluntary.

The 60-day Notice was published in the Federal Register on June 4, 2024 (89 FR 47992) (Document Number: 2024-12242). The agency received no comments in response to this Notice.

Agency: Institute of Museum and Library Services.

Title: Gathering Community Spotlights to Highlight Efforts of Local Practitioners to Improve Information Literacy: Collection Process to Populate Community Spotlights.

OMB Control Number: 3137-NEW.

Agency Number: 3137.

Respondents/Affected Public: IMLS will seek to collect Community Spotlights from grantees, Taskforce member agency grantees, and knowledge sharing cohort members and recruitment lists. Examples of practitioners doing this work are museum workers and librarians.

Total Number of Respondents: 75.

Frequency of Response: Once per request.

Average Minutes Per Response: 50.

Total Estimated Annual Burden Hours: 45.

Total Annual Cost Burden: $1,508.40.

Total Annual Federal Costs: $41,762.88.

Dated: August 29, 2024.
Suzanne Mbollo,
Grants Management Specialist, Institute of Museum and Library Services.

[FR Doc. 2024-19897 Filed 9-4-24; 8:45 am]

BILLING CODE 7036-01-P